DEPARTMENT OF HEALTH AND HUMAN SERVICES

[Document Identifier: OS-0990-New]

60-Day Notice; Agency Information Collection Request; 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 60-days.

Proposed Project: Evaluation of Pregnancy Prevention Approaches: First Follow-Up Data Collection—OMB No. 0970-0360—Office of Adolescent Health in collaboration with the Administration for Children and Families.

Abstract: The Office of Adolescent Health (OAH), Office of Public Health and Science (OPHS), U.S. Department of Health and Human Services (HHS), is requesting approval by OMB on a new collection. OAH is overseeing and coordinating adolescent pregnancy prevention evaluation efforts as part of the Teen Pregnancy Prevention Initiative. OAH is working collaboratively with the Office of the Assistant Secretary for Planning and Evaluation (ASPE), the Centers for Disease Control and Prevention (CDC), and the Administration for Children and Families (ACF) on adolescent pregnancy prevention activities.

OAH has provided funding to ACF to oversee the implementation of the Evaluation of Adolescent Pregnancy Prevention Approaches (PPA). PPA is a random assignment evaluation which will expand available evidence on effective ways to reduce teen pregnancy. The evaluation will document and test a range of pregnancy prevention approaches in up to eight program sites. The findings of the evaluation will be of interest to the general public, to policy-makers, and to organizations interested in teen pregnancy prevention.

OAH and ACF are proposing a data collection activity as part of the PPA evaluation. This proposed information collection activity focuses on collecting follow-up data from a self-administered questionnaire which will be analyzed to determine program effects. Through a survey instrument, respondents will be asked to answer carefully selected questions about demographics and risk and protective factors related to teen pregnancy.

Respondents: The data will be collected through private, self-administered questionnaires completed by study participants, i.e. adolescents assigned to a select school or community teen pregnancy prevention program or to a control group. Surveys will be distributed and collected by trained professional staff.

Estimated Annualized Burden Table
Forms | Type of respondent | Annual number of respondents | Number of responses per respondent | Average burden hours per response | Total annual burden hours
First Follow-up Instrument | Participating Youth and Control Group Youth | 3,060 | 1 | 0.5 | 1,530

Seleda Perryman,
Paperwork Reduction Act Clearance Officer, Office of the Secretary.

[FR Doc. 2010-16871 Filed 7-9-10; 8:45 am]

BILLING CODE 4150-30-P